SMALL BUSINESS ADMINISTRATION

Telegraph Hill Partners SBIC, L.P., License No. 09/79-0453; Notice Seeking Exemption Under Section 312 of the Small Business Investment Act, Conflicts of Interest

Notice is hereby given that Telegraph Hill Partners SBIC, L.P., 360 Post Street, Suite 601, San Francisco, CA 94108, a Federal Licensee under the Small Business Investment Act of 1958, as amended (“the Act”), in connection with the financing of a small concern, has sought an exemption under section 312 of the Act and section 107.730, Financings Which Constitute Conflicts of Interest of the Small Business Administration (“SBA”) Rules and Regulations (13 CFR 107.730). Telegraph Hill Partners SBIC, L.P. proposes to provide debt security financing to AngioScore, Inc., 5055 Brandin Court, Fremont, CA 94538. The financing is contemplated to provide AngioScore, Inc. with working capital to support the company's current operating plan.

The financing is brought within the purview of § 107.730(a) of the Regulations because Telegraph Hill Partners, L.P., Telegraph Hill Partners II, L.P. and affiliates of Telegraph Hill Partners II, L.P., Associates of Telegraph Hill Partners SBIC, L.P., collectively own more than ten percent of AngioScore, Inc., and therefore AngioScore, Inc. is considered an Associate of Telegraph Hill Partners SBIC, L.P. as defined in § 107.50 of the Regulations.

Notice is hereby given that any interested person may submit written comments on the transaction to the Associate Administrator for Investment, U.S. Small Business Administration, 409 Third Street, SW., Washington, DC 20416.

Dated: October 10, 2007.
A. Joseph Shepard,
Associate Administrator for Investment.

[FR Doc. E7-21210 Filed 10-26-07; 8:45 am]

BILLING CODE 8025-01-P